DEPARTMENT OF HEALTH AND HUMAN SERVICES

Health Resources and Services Administration

Sickle Cell Disease Newborn Screening Follow-Up Program

AGENCY: Health Resources and Services Administration (HRSA), Department of Health and Human Services.

ACTION: Notice of Supplemental awards.

SUMMARY: HRSA will provide $65,500 in supplemental award funds to each of the 25 Sickle Cell Disease (SCD) Newborn Screening Follow-Up Program (NBS FP) grantees under HRSA-21-036 in fiscal year (FY) 2025, totaling $1,637,500. The FY 2025 supplemental funds will support grant activities that are in scope of program goals and objectives. The supplemental funding can support activities related to: increasing access to medical and support services, particularly during the pediatric to adult transition period; improving data systems; increasing workforce training and knowledge; expanding quality improvement projects; or conducting outreach to help identify individuals living with SCD who have been lost to follow-up. These activities will strengthen the linkage of individuals with SCD to appropriate and ongoing care to improve health outcomes.

FOR FURTHER INFORMATION CONTACT: Hakim Fobia, Public Health Analyst and Project Officer, Genetic Services Branch, Division of Services for Children with Special Health Needs, HRSA, at scdprograms@hrsa.gov or 301-945-9842.

SUPPLEMENTARY INFORMATION:

Intended Recipients of the Award: 25 SCD NBS FP recipients listed in Table 1.

Amount of Non-Competitive Awards: 25 awards at $65,500 (total: $1,637,500).

Project Period: September 1, 2021, to August 31, 2026.

Assistance Listing Number: 93.110.

Award Instrument: Non-competitive supplement.

Authority: 42 U.S.C. 701(a)(2) (§ 501(a)(2) of the Social Security Act).

Table 1—Recipient(s) and Award Amount(s)
Grant No. | Award recipient name | City, state | Award amount
D1JMC42466 | Sickle Cell Disease Association of Illinois | Chicago, IL | $65,500
D1JMC42474 | Hemostasis and Thrombosis Center of Nevada | Las Vegas, NV | 65,500
D1JMC42475 | Ohio Sickle Cell & Health Association, Inc | Columbus, OH | 65,500
D1JMC42467 | Martin Center, Inc | Indianapolis, IN | 65,500
D1JMC42468 | Baton Rouge Sickle Cell Anemia Foundation, Inc | Baton Rouge, LA | 65,500
D1JMC42463 | Cayenne Wellness Center and Children's Foundation, Inc | Burbank, CA | 65,500
D1JMC42472 | Children's Sickle Cell Foundation, Inc | Pittsburgh, PA | 65,500
D1JMC42473 | James R. Clark Memorial Sickle Cell Foundation | Columbia, SC | 65,500
D1JMC42471 | Piedmont Health Services and Sickle Cell Agency | Greensboro, NC | 65,500
D1JMC42476 | Sickle Cell Anemia Foundation of Oregon, Inc | Portland, OR | 65,500
D1JMC42470 | Sickle Cell Association | Florissant, MO | 65,500
D1JMC42477 | The Sickle Cell Association of New Jersey, Inc | Newark, NJ | 65,500
D1JMC42469 | Sickle Cell Disease Association of America Michigan Chapter, Inc | Detroit, MI | 65,500
D1JMC42478 | Sickle Cell Disease Association of America Philadelphia-Delaware Valley Chapter | Philadelphia, PA | 65,500
D1JMC42462 | Sickle Cell Foundation of Arizona, Inc | Vail, AZ | 65,500
D1JMC42465 | Sickle Cell Foundation of Georgia, Inc | Atlanta, GA | 65,500
D1JMC42479 | Sickle Cell Association of Texas Marc Thomas Foundation | Austin, TX | 65,500
D1JMC42480 | Sickle Cell/Thalassemia Patients Networks, Inc | Brooklyn, NY | 65,500
D1JMC42481 | Supporters of Families with Sickle Cell Disease, Inc | Tulsa, OK | 65,500
D1JMC42464 | University of Miami | Miami, FL | 65,500
D1JMC46837 | Sickle Cell Disease Foundation | Ontario, CA | 65,500
D1JMC46836 | Sickle Cell Disease Association of America Mobile Chapter | Mobile, AL | 65,500
D1JMC46834 | Crescent Foundation, Inc. | Philadelphia, PA | 65,500
D1JMC46835 | Metropolitan Seattle Sickle Cell Task Force | Seattle, WA | 65,500
D1JMC46838 | Sickle Cell Foundation of Tennessee | Memphis, TN | 65,500

Justification: In year 4 of 5 of this program, funding is being made available for FY 2025 to 25 current funding recipients under HRSA-21-036 to facilitate access to quality SCD care by conducting outreach and working with individuals living with SCD and families from the time a newborn screen identifies a child with possible SCD through diagnosis, treatment, and follow-up across the lifespan. Such funding helps bridge access to services by supporting community-based organizations in reaching individuals in the communities where they reside and providing a critical link to health care and other social services to improve the lives of individuals living with SCD. SCD NBS FP grantees will use the supplemental funding to improve appropriate health care and social services utilization by targeting direct and indirect barriers to accessing health care such as transition support, social service linkage, data system development, workforce educational support and training, expanding quality improvement projects, and other services. The above activities are within the scope of the NBS FP program as described in HRSA-21-036.

Thomas J. Engels,
Administrator.

[FR Doc. 2025-17215 Filed 9-5-25; 8:45 am]

BILLING CODE 4165-15-P